DEPARTMENT OF AGRICULTURE

Cooperative State Research, Education, and Extension Service

Solicitation of Input From Stakeholders on Agricultural Research, Extension, and Education Grant Programs Administered by the Cooperative State Research, Education, and Extension Service

AGENCY: Cooperative State Research, Education, and Extension Service.

ACTION: Notice of listening sessions.

SUMMARY: Section 102(b) of the Agricultural Research, Extension, and Education Reform Act of 1998 (AREERA) (7 U.S.C. 7612) requires the Cooperative State Research, Education, and Extension Service (CSREES) in establishing priorities for agricultural research, extension, and education activities conducted or funded by CSREES to solicit and consider input and recommendations from persons who conduct or use agricultural research, extension, or education. CSREES is planning to conduct listening sessions in four different geographic locations in the United States over the next six months to solicit stakeholder input. As part of this stakeholder input process, CSREES also will be soliciting input and comments on the effectiveness of existing agricultural research, education, and extension programs administered by CSREES in meeting current and future challenges to the United States' food and agriculture system. This notice announces the first two listening sessions. The remaining two listening sessions will be announced in the Federal Register at a later date. They will be held in the southern and western regions of the United States.

DATES AND ADDRESSES: The first listening session will be held on Thursday, July 12, 2001, from 8:30 a.m. to 5:00 p.m. at the Lancaster Host Resort and Conference Center; 2300 Lincoln Highway East; Lancaster, PA 17602. Attendees must make their own hotel arrangements. A block of sleeping rooms at a conference rate is being held until June 30, 2001, listed under the name of USDA. Rooms can be reserved by calling the hotel directly at 717-299-5500.

The second listening session will be held on Thursday, July 26, 2001, from 8:30 a.m. to 5:00 p.m. at the Embassy Suites Hotel, Minneapolis airport; 7901 34th Avenue South; Bloomington, MN 55425. Attendees must make their own hotel arrangements. A block of sleeping rooms at a conference rate is being held until June 27, 2001, listed under the name of USDA. Rooms can be reserved by calling the hotel directly at 952-854-2101.

To aid participants in scheduling their attendance, the following schedule is anticipated for each listening session:

8:30 a.m.-9:00 a.m.—Introductory Remarks and Background.

9:00 a.m.-12:00 p.m.—Scheduled 5-Minute Comment Periods.

1:00 p.m.-3:30 p.m.—Breakout Group Meetings.

3:30 p.m.-5:00 p.m.—Reports from Breakout Group Meetings and General Discussion.

FOR FURTHER INFORMATION CONTACT: Persons wishing to present oral comments at these meetings and/or attend the afternoon breakout sessions are requested to pre-register by contacting Ms. Mary H. Humphreys at (202) 720-6012, by fax at (202) 720-6199 or by e-mail to mhumphreys@reeusda.gov. CSREES is particularly interested in receiving comments during the 5-minute comment periods that address one or more of the topics listed in the “Topics to Address” section below. When making a reservation for a 5-minute comment period, participants should provide a title for their presentation. More time may be available in the morning session, depending on the number of people wishing to make a presentation and the time needed for questions following the presentations. Reservations will be confirmed on a first-come, first-served basis. To facilitate the afternoon breakout sessions, it is requested that participants pre-register for one of the five breakout sessions listed below. Although pre-registration is not required to attend the listening sessions, it is strongly recommended to ensure that adequate accommodations are available. Written comments also may be submitted for the record by mailing to: Ms. Mary Humphreys; Office of the Administrator; Cooperative State Research, Education, and Extension Service; U.S. Department of Agriculture; STOP 2201; 1400 Independence Avenue, SW., Washington, DC 20250-2201. Please provide three copies of the comments. Comments also may be faxed or sent via e-mail to Ms. Humphreys.

The initial two, as well as subsequent, listening sessions will follow the same general format and comments from all sessions will be compiled and considered. All written comments from the July 12 and July 26 sessions must be received by November 15, 2001, to be considered. Information gathered from the Listening Sessions will be available for review on the CSREES web page (http://www.reeusda.gov). Participants who require a sign language interpreter or other special accommodations should contact Ms. Humphreys as directed above.

SUPPLEMENTARY INFORMATION:

Background and Purpose

Section 102(b) of AREERA requires that CSREES, in establishing priorities for agricultural research, extension, and education activities conducted or funded by CSREES, solicit and consider input and recommendations from persons who conduct or use agricultural research, extension, or education. As part of these listening sessions, CSREES simultaneously will be soliciting input and comments on the effectiveness of the existing agricultural research, education and extension programs administered by CSREES in meeting current and future challenges in the food and agricultural sciences.

Section 1402 of the National Agricultural Research, Extension, and Teaching Policy Act of 1977 (NARETPA), 7 U.S.C. 3101, specifies that the purposes of agricultural research, extension, and education are to (1) enhance competitiveness of the United States agriculture and food industry in an increasingly competitive world environment; (2) increase the long-term productivity of the United States agriculture and food industry while maintaining and enhancing the natural resource base on which rural America and the United States agricultural economy depend; (3) develop new uses and new products for agricultural commodities, such as alternative fuels, and develop new crops; (4) support agricultural research and extension to promote economic opportunity in rural communities and to meet the increasing demand for information and technology transfer throughout the United States agriculture industry; (5) improve risk management in the United States agriculture industry; (6) improve the safe production and processing of, and adding value to, United States food and fiber resources using methods that maintain the balance between yield and environmental soundness; (7) support higher education in agriculture to give the next generation of Americans the knowledge, technology, and applications necessary to enhance the competitiveness of United States agriculture; and (8) maintain an adequate, nutritious, and safe supply of food to meet human nutritional needs and requirements.

Section 1404 of NARETPA, 7 U.S.C. 3103, defines “Food and Agricultural Sciences” as meaning basic, applied, and developmental research, extension, and teaching activities in food and fiber, agricultural, renewable natural resources, forestry, and physical and social sciences, including activities relating to the following: (1) Animal Health, production, and well-being, (2) Plant health and production, (3) Animal and plant germ plasm collection and preservation, (4) Aquaculture, (5) Food safety, (6) Soil and water conservation and improvement, (7) Forestry, horticulture, and range management, (8) Nutritional sciences and promotion, (9) Farm enhancement, including financial management, input efficiency, and profitability, (10) Home economics, (11) Rural human ecology, (12) Youth development and agricultural education, including 4-H clubs, (13) Expansion of domestic and international markets for agricultural commodities and products, including agricultural trade barrier identification and analysis, (14) Information management and technology transfer related to agriculture, (15) Biotechnology related to agriculture, and (16) The processing, distributing, marketing, and utilization of food and agricultural products.

CSREES currently supports agricultural research, extension and education activities through a broad array of programs which includes both formula funded and competitively awarded grant programs. The formula funded programs include the agricultural research programs authorized under the Hatch Act (7 U.S.C. 361a et seq.) for the State Agricultural Experiment Stations; section 1445 of NARETPA (7 U.S.C. 3222) for the 1890 Land-Grant Institutions including Tuskegee University; McIntire-Stennis Cooperative Forestry Act (16 U.S.C. 582a et seq.); and section 1433 of NARETPA (7 U.S.C. 3195) for the Animal Health and Disease Research program. The agricultural extension programs are funded under section 3 of the Smith-Lever Act (7 U.S.C. 343) for the cooperative extension services at the 1862 Land-Grant Institutions; section 3(d) of the Smith-Lever Act (7 U.S.C. 343(d)) for targeted, national programs; and section 1444 of NARETPA (7 U.S.C. 3221) for the 1890 Land-Grant Institutions including Tuskegee University. West Virginia State College also receives funding for agricultural research and extension programs. Section 534(a) of the Equity in Educational Land-Grant Status Act of 1994 (7 U.S.C. 301 note) authorizes funding for the 1994 Institutions to strengthen their teaching programs in food and agricultural sciences.

The CSREES competitive grant programs include the National Research Initiative authorized under section 2(b) of the Competitive, Special, and Facilities Research Grant Act (7 U.S.C. 450i); Initiative for Future Agriculture and Food Systems authorized under section 401 of AREERA (7 U.S.C. 7621); Integrated Research, Education, and Extension Competitive Grants Program authorized under section 406 of AREERA (7 U.S.C. 7626); Food and Agricultural Sciences National Needs Graduate Fellowship Grants Program authorized under section 1417(b)(6) of NARETPA (7 U.S.C. 3152(b)(6)); Higher Education Challenge Grants Program authorized under section 1417(b)(1) of NARETPA (7 U.S.C. 3152(b)(1)); Secondary Agriculture Education Challenge Grants Program authorized under section 1417(j) of NARETPA (7 U.S.C. 3152(j)); and Hispanic-Serving Institutions Education Grants Program authorized under section 1455 of NAREPTA (7 U.S.C. 3241). In addition, sections 535 and 536 of the Equity in Educational Land-Grant Status Act of 1994 (7 U.S.C. 301 note) authorize competitive capacity building and research grant programs for the 1994 Institutions. Further information about CSREES grant programs is available through the CSREES web page at http://www.reeusda.gov as the above list of CSREES grant programs is not exhaustive.

A majority of the agricultural research, extension, and education activities funded by CSREES are conducted through the 1862 Land-Grant Institutions which were established under the First Morrill Act (7 U.S.C. 301 et seq.); the 1890 Land-Grant Institutions under the Second Morrill Act (7 U.S.C. 321 et seq.); and the 1994 Institutions under the Equity in Educational Land-Grant Status Act of 1994 (7 U.S.C. 301 note).

Topics to Address

To ensure that Federally-supported agricultural research, extension and education activities remain effective in addressing priorities in United States food and agriculture, CSREES specifically is requesting input and recommendations on the following topic areas from persons who conduct or use agricultural research, extension and education. However, comments are not limited to these topics.

(1) The use of agricultural research, extension, and education programs to generate the science and educational programs necessary to address challenges facing United States food and fiber production.

(2) The development of human capacity (e.g., scientists, educators, and extension agents and specialists) in the food and agricultural sciences.

(3) The changes which should and could be made, if any, in the current funding mechanisms (i.e., formula funded and competitive grants) to more efficiently and effectively engage the agricultural research, extension, and education system in meeting the modern challenges to United States food and fiber production.

(4) The most effective methods for ensuring that agricultural research, education, and extension programs address the highest priority needs of the United States food and fiber system.

(5) The best means by which agricultural research, education, and extension programs can quickly respond to rapidly emerging challenges to the United States food and fiber system.

(6) The coordination of agricultural research, education, and extension activities with the activities of other Federal agencies to use scientific advances in other fields (e.g., health, information technology, geospatial, and sociological research) as well as disseminate information through educational and outreach programs.

(7) The application of agricultural research, education, and extension programs to economic development and revitalization needs of rural America.

Written comments should be submitted as directed in the For Further Information Contact section of this notice.

Breakout Session Workgroup Meetings

CSREES will conduct Breakout Session Workgroup Meetings at each listening session in the afternoon in the following specific subject areas: (1) Developing 21st Century Plant, Animal, and Forest Production System, (2) Revitalizing Rural America, (3) Managing and Conserving Natural Resources, (4) Linking Agriculture, Nutrition, and Health, (5) Improving Opportunities for Family and Youth Development, and (6) Developing Human Capacity in Agricultural Research, Extension and Education for the 21st Century. Listening session participants are encouraged to pre-register for one of these sessions as noted under the For Further Information Contact section of this notice. The Breakout Session Workgroups will provide an opportunity for participants to address the above topics in relation to specific issues related to the food and agricultural sciences. Each Breakout Session Workgroup will provide a summary of their discussions to the overall group.

Done at Washington, DC, this 20th day of June 2001.
Colien Hefferan,
Administrator, Cooperative State Research, Education, and Extension Service.

[FR Doc. 01-15983 Filed 6-21-01; 1:08 pm]

BILLING CODE 3410-22-P